DEPARTMENT OF TRANSPORTATION

Federal Aviation Administration

14 CFR Part 73

[Docket No. FAA-2014-0639; Airspace Docket No. 13-ASW-20]

RIN 2120-AA66

Proposed Modification of Restricted Areas R-3804A, R-3804B, and R-3804C; Fort Polk, LA

AGENCY: Federal Aviation Administration (FAA), DOT.

ACTION: Notice of proposed rulemaking (NPRM).

SUMMARY: This action proposes to expand the lateral boundary of restricted area R-3804B, Fort Polk, LA, and raise the restricted area ceiling to, but not including 10,000 feet mean sea level (MSL). The expanded restricted airspace would be used to contain new live fire ranges and support mission requirements of the U.S. Army in order to fully exploit the capabilities of modern weapons systems and complex training scenarios that replicate the conditions encountered during military deployments today. This action also proposes time of designation changes to R-3804A and R-3804B to better reflect when the restricted areas are required and in use by the U.S. Army and when the airspace is available for use by nonparticipants. This action would incorporate editorial corrections to the R-3804A, R-3804B, and R-3804C legal descriptions.

DATES: Comments must be received on or before November 10, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2014-0639 and Airspace Docket No. 13-ASW-20, at the beginning of your comments. You may also submit comments through the Internet at www.regulations.gov. Comments on environmental and land use aspects should be directed to: Elizabeth Hoyt, Ecologist, DPW ENRMD Conservation Branch, 1697 23rd Street, Building 2543, Fort Polk, LA 71459, phone 337-531-1363.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0639 and Airspace Docket No. 13-ASW-20) and be submitted in triplicate to the Docket Management System (see ADDRESSES section for address and phone number). You may also submit comments through the Internet at www.regulations.gov.

Commenters wishing the FAA to acknowledge receipt of their comments on this action must submit with those comments a self-addressed, stamped postcard on which the following statement is made: “Comments to FAA Docket No. FAA-2014-0639 and Airspace Docket No. 13-ASW-20.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Central Service Center, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

Joint Readiness Training Center (JRTC) Fort Polk, located in Fort Polk, LA, is one of two U.S. Army training sites for conducting realistic force on force exercises. Units typically rotate through Fort Polk as one of their final preparations for deployments worldwide. The Fort Polk training environment allows the integration of ground and air forces using the most modern weapons and tactics in highly complex scenarios. Much of the training is accomplished with live ordinance that possess capabilities which exceed the current dimensions of R-3804B.

In order to fully exploit the capabilities of modern weapons systems and provide the required training scenarios that replicate conditions encountered during deployments today, it is necessary to expand R-3804B laterally and vertically. New weapons ranges planned for use would contain hazardous artillery and mortar fires reaching a maximum altitude of 9,400 feet MSL. Planned firing ranges would also present a vertical hazard to nonparticipants above the current R-3804B ceiling of 3,000 feet MSL. Several of these planned ranges are located within the proposed lateral expansion of R-3804B, outside the existing restricted area boundary, and would enable employment of the weapon systems at realistic distances from the target. The proposed airspace expansion would also permit the use of non-eye safe targeting lasers from airborne platforms at distances that replicate modern combat tactics.

The land underlying the proposed lateral expansion of R-3804B is owned by the U.S. Army and the proposed vertical expansion of the restricted area would continue to be contained within the Warrior 1 Low and Warrior 1 High Military Operations Areas (MOAs), which rise upward from 100 feet above the ground to flight level (FL) 180. Additionally, R-3804A abuts the proposed expansion of R-3804B immediately to the east and rises from the surface to FL 180; thus, creating a shadow in which the proposed R-3804B would lie.

Currently, R-3804B lacks the lateral and vertical dimensions necessary to contain the extended weapons employment ranges and altitudes, and laser training profiles, used today in combat operations. This deficiency reduces the U.S. Army's mission integration training in the employment of air and ground units during the final stages of deployment preparation. The proposed expansion of R-3804B would provide the necessary live-fire capability supporting modern combat tactics and is critical to conducting realistic full mission profile training.

Upon review of the R-3804 restricted area complex, additional proposed amendments to the time of designation of R-3804A and R-3804B were identified to better reflect when the restricted areas are required and in use by the U.S. Army and when the airspace is no longer required for its designated purpose. And, editorial changes to correct the R-3804A, R-3804B, and R-3804C using agency information were also identified.

The proposed amendments to R-3804A, R-3804B, and R-3804C are addressed below.

The Proposal

The FAA is proposing an amendment to 14 CFR part 73 to expand the lateral and vertical dimensions of restricted area R-3804B, Fort Polk, LA. The proposed R-3804B would be the minimum size required for containing hazardous mortar, gunnery, and non-eye safe laser targeting activities conducted there. The actual usage of the restricted area is estimated to be continuous for two weeks out of each month during JRTC military rotations. The proposed R-3804B amendments are described below.

The proposed R-3804B boundary would extend the current eastern boundary northward to match the northwestern corner of R-3804A at 31°08′43″ N. latitude. The northern boundary would then begin at that matched northwestern corner of R-3804A and run west along the 31°08′43″ N. latitude to intercept the 93°11′00″ W. longitude. The proposed R-3804B western boundary would then begin at that intercepted point (lat. 31°08′43″ N., long. 93°11′00″ W.) and run southward along the 93°11′00″ W. longitude to intercept the northern boundary of the current R-3804B at lat. 31°04′56″ N., long. 93°11′00″ W. The remaining R-3804B boundary information would be unchanged.

The proposed R-3804B designated altitudes would be changed from “surface to 3,000 feet MSL” to “surface to but not including 10,000 feet MSL.” This is necessary to ensure containment of the hazardous artillery and mortar fires with a maximum altitude of 9,400 feet MSL.

Additionally, the proposed time of designation for the amended R-3804B would be changed from “Continuous” to “By NOTAM.” During periods when the proposed restricted area is not needed by the using agency for its designated purpose, the airspace would be returned to the controlling agency for access by other airspace users. This proposed amendment would ensure the restricted area is available to the U.S. Army when needed, continuously during training rotations, and provide a better indication to nonparticipants when the R-3804B airspace is active and when it is available for use by the public.

Similarly, the proposed time of designation for R-3804A would be changed from “Continuous” to “By NOTAM” to match the proposed R-3804B time of designation. Again, during periods when the restricted area is not needed by the using agency for its designated purpose, the airspace would be returned to the controlling agency for access by other airspace users. This proposed amendment would ensure R-3804A is available to the U.S. Army when needed, continuously during training rotations, and provide a better indication to nonparticipants when the R-3804A airspace is active and when it is available for use by the public.

Lastly, this action proposes administrative changes to the using agency name for R-3804A, R-3804B, and R-3804C to incorporate the military service component of the using agency in the using agency name and to the designated altitudes and time of designation for R-3804C to remove unnecessary verbiage. The using agency information change for the three restricted areas would simply preface the existing using agency information with “U.S. Army.” The designated altitudes information change for R-3804C would remove the word “up” and the time of designation information change for R-3804C would remove the words “As published.” These are purely administrative changes that do not affect the scheduling, use, or activities conducted within the restricted areas.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the restricted area airspace at Fort Polk, Louisiana, to enhance aviation safety and accommodate essential U.S. Army training requirements.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.38 Louisiana (Amended)

2. § 73.38 is amended as follows:

* * * * *

R-3804A Fort Polk, LA (Amended)

Boundaries. Beginning at lat. 31°00′53″ N., long. 93°08′12″ W.; to lat. 31°00′53″ N., long. 92°56′53″ W.; to lat. 31°00′20″ N., long. 92°56′14″ W.; to lat. 31°00′20″ N., long. 92°54′23″ W.; to lat. 31°03′55″ N., long. 92°51′34″ W.; to lat. 31°09′35″ N., long. 92°58′25″ W.; to lat. 31°09′35″ N., long. 93°00′56″ W.; to lat. 31°08′43″ N., long. 93°01′55″ W.; to lat. 31°08′43″ N., long. 93°08′12″ W.; to the point of beginning.

Designated altitudes. Surface to FL 180.

Time of designation. By NOTAM.

Controlling agency. FAA, Houston ARTCC.

Using agency. U.S. Army, Commanding General, Fort Polk, LA.

R-3804B Fort Polk, LA (Amended)

Boundaries. Beginning at lat. 31°00′53″ N., long. 93°10′53″ W.; to lat. 31°00′53″ N., long. 93°08′12″ W.; to lat. 31°08′43″ N., long. 93°08′12″ W.; to lat. 31°08′43″ N., long. 93°11′00″ W.; to lat. 31°04′56″ N., long. 93°11′00″ W.; to lat. 31°04′15″ N., long. 93°12′31″ W.; to the point of beginning.

Designated altitudes. Surface to but not including 10,000 feet MSL.

Time of designation. By NOTAM.

Controlling agency. FAA, Houston ARTCC.

Using agency. U.S. Army, Commanding General, Fort Polk, LA.

R-3804C Fort Polk, LA (Amended)

Boundaries. Beginning at lat. 31°00′53″ N., long. 93°08′12″ W.; to lat. 31°00′53″ N., long. 92°56′53″ W.; to lat. 31°00′20″ N., long. 92°56′14″ W.; to lat. 31°00′20″ N., long. 92°54′23″ W.; to lat. 31°03′55″ N., long. 92°51′34″ W.; to lat. 31°09′35″ N., long. 92°58′25″ W.; to lat. 31°09′35″ N., long. 93°00′56″ W.; to lat. 31°08′43″ N., long. 93°01′55″ W.; to lat. 31°08′43″ N., long. 93°08′12″ W.; to the point of beginning.

Designated altitudes. FL 180 to but not including FL 350.

Time of designation. By NOTAM 24 hours in advance.

Controlling agency. FAA, Houston ARTCC.

Using agency. U.S. Army, Commanding General, Fort Polk, LA.

Issued in Washington, DC, on September 18, 2014.
Paul Gallant,
Acting Manager, Airspace Policy and Regulations Group.

[FR Doc. 2014-22880 Filed 9-24-14; 8:45 am]

BILLING CODE 4910-13-P